DEPARTMENT OF LABOR

Employment and Training Administration

[TA-W-71,106]

Paris Accessories, Inc., Including On-Site Leased Workers From Job Connections, New Smithsville, PA; Notice of Revised Determination on Reconsideration

By application dated April 1, 2010, a worker requested administrative reconsideration of the negative determination applicable to the subject firm. The denial was based on the finding that neither increased imports nor a shift in production to a foreign country contributed importantly to worker separations at the subject firm. The workers are engaged in employment related to the assembly and packaging of accessories. The Department's notice of negative determination was issued on February 25, 2010 and published in the Federal Register on April 23, 2010 (75 FR 21363).

In the request for reconsideration, the petitioner stated that the subject firm had begun performing offshore the kinds of operations that had been carried out by the worker group.

Based on additional information provided by the subject firm during the reconsideration investigation, the Department determines that the subject firm has acquired from a foreign source services like or directly competitive with the assembly and packaging services formerly performed by the subject workers.

Conclusion

After careful review of the additional facts obtained on reconsideration, I determine that workers of Paris Accessories, Inc., New Smithsville, Pennsylvania, including on-site leased workers from Job Connections, who are engaged in employment related to the assembly and packaging of accessories, meet the worker group certification criteria under Section 222(a) of the Act, 19 U.S.C. 2272(a). In accordance with Section 223 of the Act, 19 U.S.C. 2273, I make the following certification:

All workers of Paris Accessories, Inc., New Smithsville, Pennsylvania, including on-site leased workers from Job Connections, who became totally or partially separated from employment on or after May 27, 2008, through two years from the date of this certification, and all workers in the group threatened with total or partial separation from employment on date of certification through two years from the date of certification, are eligible to apply for adjustment assistance under Chapter 2 of Title II of the Trade Act of 1974, as amended.

Signed in Washington, DC, this 27th day of May, 2010.
Del Min Amy Chen,
Certifying Officer, Division of Trade Adjustment Assistance.

[FR Doc. 2010-14456 Filed 6-15-10; 8:45 am]

BILLING CODE 4510-FN-P